NATIONAL FOUNDATION ON THE ARTS AND THE HUMANITIES

National Endowment for the Humanities

Privacy Act of 1974; System of Records Notice; Correction

AGENCY: National Endowment for the Humanities; National Foundation on the Arts and the Humanities.

ACTION: Notice of republication of systems of records and new routine uses; correction.

SUMMARY: The National Endowment for the Humanities (NEH) published a notice of systems of records in the Federal Register of April 26, 2017. The references in the document to specific sections of the Code of Federal Regulations are out of date.

FOR FURTHER INFORMATION CONTACT: Elizabeth Voyatzis, Deputy General Counsel, Office of the General Counsel, National Endowment for the Humanities, 400 7th Street SW, Room 4060, Washington, DC 20506; (202) 606-8322; gencounsel@neh.gov.

SUPPLEMENTARY INFORMATION:

Correction

1. In the Federal Register of April 26, 2017, in FR Doc. 2017-08410, on page 19266, in the first column, correct “45 CFR 1115.3” to read “45 CFR 1169.4,” correct “45 CFR 1115.4” to read “45 CFR 1169.5,” correct “45 CFR 1115.5” to read “45 CFR 1169.7,” and correct “45 CFR 1115.7” to read “45 CFR 1169.10.”

2. In the Federal Register of April 26, 2017, in FR Doc. 2017-08410, on page 19268, in the first column, correct “45 CFR 1115.3” to read “45 CFR 1169.4,” correct “45 CFR 1115.4” to read “45 CFR 1169.5,” and correct “45 CFR 1115.5” to read “45 CFR 1169.7.”

3. In the Federal Register of April 26, 2017, in FR Doc. 2017-08410, on page 19269, in the third column, correct “45 CFR 1115.3” to read “45 CFR 1169.4,” correct “45 CFR 1115.4” to read “45 CFR 1169.5,” and correct “45 CFR 1115.5” to read “45 CFR 1169.7.”

4. In the Federal Register of April 26, 2017, in FR Doc. 2017-08410, on page 19271, in the third column, correct “45 CFR 1115.3” to read “45 CFR 1169.4,” correct “45 CFR 1115.4” to read “45 CFR 1169.5,” and correct “45 CFR 1115.5” to read “45 CFR 1169.7.”

5. In the Federal Register of April 26, 2017, in FR Doc. 2017-08410, on page 19273, in the third column, correct “45 CFR 1115.3” to read “45 CFR 1169.4,” correct “45 CFR 1115.4” to read “45 CFR 1169.5,” correct “45 CFR 1115.5” to read “45 CFR 1169.7,” and correct “45 CFR 1115.7” to read “45 CFR 1169.10.”

6. In the Federal Register of April 26, 2017, in FR Doc. 2017-08410, on page 19275, in the third column, correct “45 CFR 1115.3” to read “45 CFR 1169.4,” correct “45 CFR 1115.4” to read “45 CFR 1169.5,” and correct “45 CFR 1115.5” to read “45 CFR 1169.7.”

Dated: February 10, 2022.
Samuel Roth,
Attorney-Advisor, National Endowment for the Humanities.

[FR Doc. 2022-03211 Filed 2-14-22; 8:45 am]

BILLING CODE 7536-01-P